DEPARTMENT OF ENERGY

Extension of a Currently Approved Information Collection for the Weatherization Assistance Program

AGENCY: Office Energy Efficiency and Renewable Energy, U.S. Department of Energy.

ACTION: Notice and request for comments.

SUMMARY: The Department of Energy (DOE or the Department), pursuant to the Paperwork Reduction Act of 1995), intends to extend for three years, an information collection request with the Office of Management and Budget (OMB). The information collection request, Historic Preservation for Energy Efficiency Programs, was initially approved on December 1, 2010, under OMB Control No. 1910-5155 and expired on September 30, 2015. The information collection request was previously approved on February 24, 2020 under OMB Control No. 1910-5155 and its current expiration date is February 28, 2023. This extension will allow DOE to continue data collection on the status of the Weatherization Assistance Program (WAP), the State Energy Program (SEP), and the Energy Efficiency and Conservation Block Grant (EECBG) Program. Program activities will ensure compliance with the National Historic Preservation Act (NHPA).

DATES: Comments regarding this propose information collection must be received on or before October 31, 2022. If you anticipate difficulty in submitting comments within that period, contact the person listed FOR FURTHER INFORMATION CONTACT section as soon as possible.

ADDRESSES: Written comments may be sent to Michael Tidwell by email to the following address: michael.tidwell@ee.doe.gov with the subject line “Historic Preservation for Energy Efficiency Programs (OMB No. 1910-5155)” included in the message. Submit electronic comments in WordPerfect, Microsoft Word, PDF, or ASCII file format, and avoid the use of special characters or any form of encryption. No telefacsimiles (faxes) will be accepted. For detailed instructions on submitting comments, see ADDRESSES section of this document. Although DOE has routinely accepted public comment submissions through a variety of mechanisms, including postal mail and hand delivery/courier, the Department has found it necessary to make temporary modifications to the comment submission process in light of the ongoing Covid-19 pandemic. DOE is currently accepting only electronic submissions at this time. If a commenter finds that this change poses an undue hardship, please contact the DOE staff person listed in this notice.

FOR FURTHER INFORMATION CONTACT: Requests for additional information or copies of the information collection instrument and instructions should be directed to Michael Tidwell, EE-5W, U.S. Department of Energy, 1000 Independence Ave. SW, Washington, DC 20585-0121 or by email or phone at michael.tidwell@ee.doe.gov, (240) 285-8937.

Additional information and reporting guidance concerning the Historic Preservation reporting requirement for the WAP, SEP, and EECBG programs are available for review at: www.energy.gov/eere/wipo/downloads/wpn-10-12-historic-preservation-implementation.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains: (1) OMB No.: 1910-5155; (2) Information Collection Request Title: “Historic Preservation for Energy Efficiency Programs”; (3) Type of Review: Extension of a Currently Approved Information Collection; (4) Purpose: To collect information on the status of the Weatherization Assistance Program, State Energy Program, and Energy Efficiency and Conservation Block Grant Program activities. State Energy Program (SEP): This ICR will include Historic Preservation reporting for SEP Annual Appropriations, Infrastructure Investment and Jobs Act (IIJA) appropriations for SEP, and two new sub-programs of SEP established by IIJA—the Energy Efficiency Revolving Loan Program and the Energy Auditor Training Grant Program. SEP Annual Appropriations: On March 15, 2022, the President signed the Consolidated Appropriations Act of 2021, which appropriated $63,000,000 to SEP. As noted in SEP Program Notice 10-008E and 10-008F, SEP Grantees are required to complete Annual Historic Preservation Reports. SEP IIJA Appropriations: On November 15, 2021, the President signed the Infrastructure Investment and Jobs Act (IIJA), which appropriated $500,000,000 for SEP to provide Formula Grants to its Grantees (State Energy Offices). Grantees will use Formula Grants for similar activities as their Annual Appropriations grants, and Grantees will similarly be required to submit Annual Historic Preservation Reports for these IIJA grants. Energy Efficiency Revolving Loan Fund Capitalization Grant Program: The IIJA appropriated $250,000,000 to SEP to establish the Energy Efficiency Revolving Loan Fund Capitalization Grant Program, through which SEP will provide Capitalization Grants to SEP Grantees to establish revolving loan fund financing programs for energy efficiency projects in residential and commercial buildings. The grants will be allocated in part according to SEP's existing allocation formula, and development and implementation of financing programs are already a subset of activities for which Grantees can and have used Annual Appropriations grants. Energy Auditor Training Grant Program: The IIJA appropriated $40,000,000 to SEP to establish the Energy Auditor Training Grant Program, through which SEP will provide grants to certain SEP Grantees to train individuals to conduct energy audits or surveys of commercial and residential buildings. Energy Efficiency and Conservation Block Grant (EECBG): This ICR will also include Historic Preservation reporting for the financing programs funded by the EECBG Program under the American Recovery and Reinvestment Act (ARRA) that grantees are required to report on into perpetuity. Through section 40552(b) of IIJA, Congress appropriated $550,000,000 to the EECBG Program for fiscal year 2022, to remain available until expended. The EECBG Program provides Federal grants to states, units of local government, and Indian tribes to assist eligible entities in implementing strategies to reduce fossil fuel emissions, to reduce total energy use, and to improve energy efficiency as outlined by the Program's authorizing legislation, Title V, Subtitle E of the Energy Independence, and Security Act of 2007 (EISA). EECBG Program grantees will be required to submit Annual Historic Preservation Reports. EECBG does not receive annual appropriations but was previously funded by ARRA in 2009. A portion of ARRA EECBG Program grantees that chose to fund and administer financing programs continue to report annually on Historic Preservation and are included in this ICR. Weatherization Assistance Program (WAP): The third and final component of this ICR is the Historic Preservation Reporting for the WAP Formula and Competitive Grant activities. On March 15, 2022, the President signed the Consolidated Appropriations Act of 2021, which appropriated $334,000,000 to the WAP. These funds are available for WAP formula activities along with WAP competitive grant recipients, all of which will be required to complete annual Historic Preservation Reports.

(5) Annual Estimated Number of Respondents: 2,863; (6) Annual Estimated Number of Total Responses: 3,105; (7) Annual Estimated Number of Burden Hours: 9,661; (8) Annual Estimated Reporting and Recordkeeping Cost Burden: $436,691.62.

Statutory Authority: Title V, National Historic Preservation Act of 1966, Pub. L. 89-665 as amended (16 U.S.C. 470 et seq.).

Signing Authority

This document of the Department of Energy was signed on August 12, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 25, 2022.
Treena V. Garrett,
Federal Register Liaison Officer, U.S. Department of Energy.

[FR Doc. 2022-18635 Filed 8-29-22; 8:45 am]

BILLING CODE 6450-01-P